DEPARTMENT OF TRANSPORTATION

Maritime Administration

[Docket Number MARAD-2020-0133]

National Historic Landmark Nuclear Ship Savannah Available; Request for Information

AGENCY: Maritime Administration, Department of Transportation.

ACTION: Notice of vessel availability and request for information.

SUMMARY: The Maritime Administration (MARAD) is decommissioning the nuclear power plant of the National Historic Landmark (NHL) vessel Nuclear Ship Savannah (NSS), which will result in the termination of the ship's Nuclear Regulatory Commission (NRC) license, making the ship available for disposition, including potential conveyance or preservation. The purpose of the Notice of Availability and Request for Information (NOA and RFI) is to determine preservation interest from entities that may wish to acquire the NSS. Information received in response to this RFI will help to inform the development of viable preservation alternatives for the NSS. MARAD requests information from entities that may be interested in acquiring the ship for conveyance and preservation purposes as prescribed in the recently executed Programmatic Agreement (PA) which is available for review on the MARAD docket at www.regulations.gov. In responding to the RFI, please review the below SUPPLEMENTARY INFORMATION/Information Requested section to inform your submission.

DATES: All responses to this RFI are due on or before February 16, 2024, following the information provided in the ADDRESSES section below.

An information session for interested parties will be held on November 18, 2023, to allow potential responders the opportunity to ask MARAD questions regarding the NSS. The meeting will be held onboard the NSS, online, or by phone. You must RSVP for the site visit to the email or phone number listed in the section below no later than November 11, 2023.

Site visits for interested parties will be held on December 16 and 17, 2023. You must RSVP for the site visit to the email or phone number listed in the section below no later than December 9, 2023. Parties who are unable to make this date may request alternate arrangements by contacting the person listed in the FOR FURTHER INFORMATION CONTACT section.

The NSS is not compliant with the Americans with Disabilities Act. The ship has some capability to accommodate persons with impaired mobility, for which advance notice is required. If you require accommodations to attend the site visit, please include this information in your RSVP. The U.S. Department of Transportation is committed to providing all participants equal access to this meeting. If you need alternative formats or services such as sign language, interpretation, or other ancillary aids, please also include that in your RSVP. Additional dates may be provided, or parties may request alternate dates subject to the same conditions as above.

ADDRESSES: You may submit your responses to this RFI and any supplemental information by any of the following methods:

• Email: marad.history@dot.gov. Please include NS Savannah RFI in the subject line of the email.

• Overnight Mail: N.S. Savannah/Savannah Technical Staff, Pier 13 Canton Marine Terminal, 4601 Newgate Avenue, Baltimore, MD 21224, ATTN: Erhard Koehler.

FOR FURTHER INFORMATION CONTACT: Erhard W. Koehler, Senior Technical Advisor, N.S. Savannah, Maritime Administration, at (202) 680-2066 or via email at marad.history@dot.gov. Additional information regarding the vessel is available at https://www.maritime.dot.gov/nssavannah.

SUPPLEMENTARY INFORMATION: Built in 1959, the NSS is the world's first nuclear-powered merchant ship and served as a signature element of President Eisenhower's Atoms for Peace program. While in service, NSS demonstrated the peaceful use of atomic power and explored the feasibility of nuclear-powered merchant vessels. NSS was retired from active service in 1970. The ship was listed in the National Register of Historic Places in 1983 and designated as an NHL in 1991 for exhibiting exceptional value in illustrating the nuclear, maritime, transportation, and political heritages of the United States.

Disposition

The NRC license termination will lead to MARAD's disposition of the NSS. Because the decommissioning and disposition of the NHL ship is an Undertaking under Section 106 of the NHPA, with an unknown end-state, MARAD developed and executed a PA covering the decommissioning and disposition of the ship. The PA outlines the process by which the disposition of NSS will be considered among the NRC, the Advisory Council on Historic Preservation (ACHP), and the Maryland State Historic Preservation Officer (SHPO). Concurrent with the decommissioning project, MARAD requests information from entities that may be interested in acquiring the ship for conveyance and preservation purposes as prescribed in the PA. The approximate date on which the vessel will be available for transfer is three (3) to six (6) months after NRC license termination.

Stipulation IV of the PA outlines a disposition alternatives development process wherein MARAD will study and evaluate alternatives that would result in the preservation of the NSS. This process will include the development of a Disposition Alternatives Study and the publication of a NOA and RFI. Although the PA lists these activities sequentially, with the Disposition Alternatives Study preceding the publication of the NOA and RFI, the signatories of the PA recently concurred that the NOA and RFI will instead precede the Disposition Alternatives Study. Therefore, MARAD is publishing this NOA and RFI in accordance with Stipulation IV of the PA, in advance of the Disposition Alternatives Study.

Conveyance Methods

MARAD is investigating several different methods of conveyance of the NSS, and these will be presented in the Disposition Alternatives Study. These conveyance methods may or may not involve MARAD's continued involvement with the ship. However, in order to foster preservation by removing a future encumbrance, MARAD will either retain the title or will retain a reversionary interest in the title. By this act MARAD is choosing to defer its obligation to scrap Savannah to some future date. MARAD's existing ship donation authority is one of the methods of conveyance that will be used. Parties interested in obtaining the vessel through this method may apply at any time. Further information on MARAD's ship donation program may be found at the following link: https://www.maritime.dot.gov/national-defense-reserve-fleet/ship-disposal-program/ship-donation.

Other conveyance methods may include, but are not limited to, a modified donation process, chartering or leasing the ship, cooperative agreements, or potentially partnering with another entity to maintain and operate the ship. MARAD expects to convey the ship in as-is condition at the time of conveyance, to include all mooring lines, fenders, and related equipment, all safety equipment, including spare parts for active safety systems, and tools and stock. The ship will contain a full complement of drawings, and technical and operating manuals. The ship's historic fabric will not be disturbed; however, if title is transferred from the federal government some material may be removed as mitigation. All mitigation efforts will be subject to consultation in accordance with the stipulations in the PA.

Technical Information

Technical information about the NSS in its present configuration will be posted to the MARAD docket and website concurrent with the publication of this notice. The information will include at least the following:

• Ship's drawings and photographs;

• Reports documenting the ship's existing material condition and expected condition at the time of license termination;

• Utility consumption data; and,

• Last material inventory completed.

Information Requested

RFI respondents should provide MARAD with a capability statement that includes at least the following information:

• Proposed use(s) for the ship;

• Mission statement for your organization;

• Proposed or potential locations for ship;

• Staffing resources for maintaining and operating the ship;

• Experience with ship maintenance and operations;

• Experience with historic property or structures;

• Funding sources; and,

• Preferred conveyance mechanism for acquisition of the ship.

Responses, including personal identifiable information will be made public, so please provide any sensitive information in a separate attachment clearly labeled, so that it may be withheld from disclosure as provided by law. Respondents should consider and discuss in their capability statement factors such as the density of museum ships in the location proposed, the nexus between the proposed location and NSS operating history, and any other relevant special criteria favoring the response.

Background

Built in 1959, the NSS is the world's first nuclear-powered merchant ship and served as a signature element of President Eisenhower's Atoms for Peace program. While in service, the NSS demonstrated the peaceful use of atomic power as well as the feasibility of nuclear-powered merchant vessels. NSS operated in experimental service as a passenger/cargo ship from 1962 to 1965, during which time it travelled 90,000 miles, visited 13 countries, and hosted 1.4 million visitors. Following the successful conclusion of the experimental phase, the ship entered its commercial phase in 1965. The ship was operated as a cargo ship generating nearly $12,000,000 in revenue between 1965 and 1970, as well as continuing to serve as a goodwill ambassador for the peaceful use of nuclear power. After successfully fulfilling its objectives, NSS operations were ceased in 1970 and the ship was deactivated and defueled in 1971.

Following deactivation, the NSS was moved to the city of Savannah, GA, where it was to be part of a proposed Eisenhower Peace Memorial; however, the memorial was never established. In 1980, Congress passed Public Law 96-331, which authorized the Secretary of Commerce to bareboat charter the ship to the Patriots Point Development Authority of South Carolina. The NSS operated as a museum ship at the Patriots Point Naval and Maritime Museum from 1981 through 1994. During this time, the NSS was listed in the National Register of Historic Places (1983) and designated as an NHL (1991) for exhibiting exceptional value in illustrating the nuclear, maritime, transportation, and political heritages of the United States. Additionally, during this time the ship was designated an International Historic Mechanical Engineering Landmark by the American Society of Mechanical Engineers (1983) and a Nuclear Engineering Landmark by the American Nuclear Society (1991).

Following termination of the charter in 1994, the NSS returned to MARAD and was entered into the James River Reserve Fleet in Virginia. The ship was removed from the reserve fleet in 2006 and underwent repairs prior to being relocated in 2008 to Baltimore, Maryland, where it is currently berthed. In 2017, funds for decommissioning of the ship were appropriated. Because the decommissioning and disposition of the NSS is an Undertaking under Section 106 of the NHPA, MARAD initiated consultation in 2018 with the Maryland SHPO, the ACHP, the NRC, the NPS, and other consulting parties. Given the complexities of the Undertaking, including the yet undetermined disposition of the NSS, the parties agreed to develop a PA to guide the execution of the Undertaking.

The PA for the Decommissioning and Disposition of the NSS was executed in March 2023, and it outlines the process by which the disposition of NSS will be considered and executed, concurrent with the decommissioning project. The decommissioning process is well underway, and dismantlement and removal of the major systems, structures, and components that were part of the ship's nuclear power plant is complete. As part of the decommissioning process, MARAD has made numerous modifications and improvements to the NSS from 2015 through the present. These improvements include climate controls, sanitary spaces, shore power, mechanical systems, mooring and access/egress equipment, alarm, and monitoring systems (fire/smoke, intrusion, flooding, security cameras), restored public spaces, office spaces, and administrative infrastructure. Typically, the greatest challenge to any static museum ship effort is the cost associated with converting or transforming the ship into a site suitable and safe for visitors. MARAD has already made improvements, as listed above, which may help to defray some of the initial starting costs for potential recipients who may be interested in receiving the ship. Additional details about the ship's condition are included in the attachments posted to the MARAD docket and website.

The disposition process is sequenced to reach a conclusion at the same time that decommissioning ends—effective with the license termination to allow a seamless transition to whichever end-state condition is approved. MARAD anticipates making its disposition decision no later than the license termination date with conveyance to follow three to six months later, after decommissioning, demobilization, and vessel redelivery contract actions are completed.

(Authority: 49 CFR 1.81 and 1.93; 36 CFR part 800; 5 U.S.C. 552b.)

By Order of the Maritime Administrator.
T. Mitchell Hudson, Jr.,
Secretary, Maritime Administration.

[FR Doc. 2023-23917 Filed 10-27-23; 8:45 am]

BILLING CODE 4910-81-P